DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determined whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 10, 2001.

Interested persons are invited to submit written comments regarding the subject matter of the investigations to the Director, Division of Trade Adjustment Assistance, at the address shown below, not later than December 10, 2001.

The petitions filed in this case are available for inspection at the Office of the Director, Division of Trade Adjustment Assistance, Employment and Training Administration, U.S. Department of Labor, Room C-5311, 200 Constitution Avenue, NW., Washington, DC 20210.

Signed at Washington, DC this 29th day of October, 2001.
Edward A. Tomchick,
Director, Division of Trade Adjustment Assistance.

Appendix
[Petitions instituted on 10/29/2001]
TA-W | Subject firm (petitioners) | Location | Date of petition | Product(s)
40,259 | National Refractories (Co.) | Columbiana, OH | 10/15/2001 | Refractory Products.
40,260 | World Kitchen, Inc. (Co.) | Wauconda, IL | 10/05/2001 | Knives.
40,261 | Capitol Manufacturing Co (Wrks) | Lansing, OH | 10/04/2001 | Steel Pipe Couplings.
40,262 | Parago, Inc. (Co.) | Coppell, TX | 10/15/2001 | Develop Software.
40,263 | Schott Scientific Glass (AFGWU) | Parkersburg, WV | 10/12/2001 | Beakers, Coffee Pots, Giftware.
40,264 | Winona Knitting Mills (Co.) | Winona, MN | 10/12/2001 | Fabric.
40,265 | McGhan Medical (Wrks) | Santa Barbara, CA | 09/25/2001 | Saline Implant.
40,266 | Modern Engineering (Wrks) | Troy, MI | 10/08/2001 | Engineering.
40,267 | Lamb Technicon (Co.) | Warren, MI | 10/12/2001 | Automated Metal Removal equipment.
40,268 | Great Lakes Chemical Corp (Co.) | Nitro, WV | 10/15/2001 | Chemical Products.
40,269 | Wheeling Corrugating (Wrks) | Klamath Falls, OR | 10/09/2001 | Metal Siding and Roofing.
40,270 | Solectron Corp (Wrks) | Research T. Park, NC | 10/09/2001 | Electronic Boards.
40,271 | Symbol Technologies (Wrks) | Bohemia, NY | 10/10/2001 | Scanner Devices.
40,272 | National Metal Industries (Co.) | W. Springfield, MA | 10/09/2001 | Stainless Steel Legs, Sockets.
40,273 | Tect, Inc (Wrks) | Allentown, PA | 10/05/2001 | T-Shirts.
40,274 | A.O. Smith Co. (Wrks) | Owosso, MI | 10/05/2001 | Component Parts for Electric Motors.
40,275 | Tyco Electronics (Wrks) | Glen Rock, PA | 10/09/2001 | Cable Assembly.
40,276 | Cosco, Inc. (Wrks) | Fort Smith, AR | 10/08/2001 | Mattresses, Mattress Covers.
40,277 | Modern Plastic Technics (Wrks) | West Berlin, NJ | 10/02/2001 | Bar Code Scanning Equipment.
40,278 | Beverly Coats, Inc. (UNITE) | Brooklyn, NY | 10/02/2001 | Ladies' Coats.
40,279 | C and C Fashions, Inc (UNITE) | Bronx, NY | 10/02/2001 | Bridemaid's Dresses.
40,280 | Munro and Co, Clarendon (Co.) | Clarendon, AR | 10/09/2001 | Cut and Stitch Footwear.
40,281 | Rezyal Ltd (Co.) | New York, NY | 09/15/2001 | Pants and Shirts.
40,282 | Key Plastics, LLC (Wrks) | Felton, PA | 09/10/2001 | Plastic Parts, Tools for Molding.
40,283 | Picsweet Mushroom Farm (Wrks) | Salem, OR | 09/20/2001 | Fresh and Processed Mushrooms.
40,284 | Carbide/Graphite Group (Co.) | Niagara Falls, NY | 09/24/2001 | Graphite Electrodes.
40,285 | Converter Concepts, Inc (Co.) | Quincy, IL | 10/11/2001 | Electronic Switches.
40,286 | Tyco Electronics Corp (Wrks) | Rock Hill, SC | 10/03/2001 | Electrical Connectors.
40,287 | Barranco/Ruth of Carolina (Wrks) | Hendersonville, NC | 10/10/2001 | Children's Dresses.
40,288 | Compaq Computer Corp (Wrks) | Houston, TX | 09/15/2001 | Computers.
40,289 | Motorola, Inc (Wrks) | Rolling Meadows, IL | 10/09/2001 | Telecommunication Systems and Equip.
40,290 | Cascade Tissue Group (Co.) | Ransom, PA | 10/08/2001 | Paper Towels, Facial Tissue.
40,291 | U.S. Bronze Foundry (Co.) | Meadville, PA | 10/09/2001 | Solid Brass Bearings.
40,292 | Exolon-Esk Co. (Co.) | Tonawanda, NY | 10/01/2001 | Abrasives.
40,293 | Pittsburgh Tool Steel (USWA) | Monaca, PA | 10/08/2001 | Cold Drawn Steel.
40,294 | Fairfield Glove (Co.) | Cherryville, NC | 10/10/2001 | Knit Gloves.
40,295 | TNS Mills, Inc. (Co.) | Spartanburg, SC | 10/11/2001 | Woven Fabrics.
40,296 | Rubatex Corp. (Wrks) | Bedford, VA | 10/09/2001 | Rubber Sheet Goods.
40,297 | Controls, Inc. (Co.) | Logansport, IN | 10/11/2001 | Printed Circuit Boards.
40,298 | Aventis (Co.) | Mt Pleasant, TN | 10/22/2001 | Chemical Products—Herbicides.
40,299 | Gilbert Paper Co (Co.) | Menasha, WI | 10/11/2001 | Premium Writing Paper.
40,300 | ADC Telecommunications (Wrks) | Minnetonka, MN | 10/09/2001 | Telecommunications Equipment.
40,301 | Faraday LLC (IBEW) | Tecumseh, MI | 10/15/2001 | Life Safety Items—Fire Alarm Systems.
40,302 | Eurotherm Action, Inc (Wrks) | San Diego, CA | 10/09/2001 | Temperature Transmitters.
40,303 | Precision Tool and Design (Wrks) | Erie, PA | 10/16/2001 | Plastic Injection Molds.
40,304 | Quality Mold, Inc. (Wrks) | Erie, PA | 10/15/2001 | Plastic Injection Molds.
40,305 | Abbott Ambulatory (Co.) | San Diego, CA | 10/09/2001 | Portable Infusion Pumps.
40,306 | Allgon Telecom Ltd (Wrks) | Fort Worth, TX | 10/12/2001 | Terminal Antennas, Cell Phone Antennas.
40,307 | Universal Furniture (Wrks) | Goldsboro, NC | 10/19/2001 | Dining Room Furniture.

[FR Doc. 01-29756 Filed 11-29-01; 8:45 am]

BILLING CODE 4510-30-M